FEDERAL TRADE COMMISSION

16 CFR Part 305

Rules Concerning Disclosures Regarding Energy Consumption and Water Use of Certain Home Appliances and Other Products Under the Energy Policy and Conseravation Act (“Appliance Labeling Rule”)

Correction

In rule document 01-28438 beginning on page 57867, in the issue of Monday, November 19, 2001, make the following corrections:

PART 305 [AMENDED]

1.On page 58768, the heading for Appendix A2 to Part 305 should read “Appendix A2 to Part 305.—Refrigerators and Refrigerators-Freezers With Manual Defrost”.

2.On the same page in the table for Appendix A2 to Part 305, in the column under the heading Low, in the ninth line,“(396)” should read “396”.

3.On the same page, in the table for Appendix A2 to Part 305, in the column under the heading High, in the ninth line,“(438)” should read “438”.

[FR Doc. C1-28438 Filed 12-7-01; 8:45 am]

BILLING CODE 1505-01-D

DEPARTMENT OF HEALTH AND HUMAN SERVICES

Office of Inspector General

42 CFR Part 1001

RIN 0991-AB05

Medicare and State Health Care Programs: Fraud and Abuse; Ambulance Replenishing Safe Harbor Under the Anti-Kickback Statute

Correction

In final rule document 01-29875 beginning on page 62979 in the issue of Tuesday, December 4, 2001, make the following correction:

§1001.952 [Corrected]

On page 62991, in the first column, in §1001.952(v)(4)(iii), in the last line, remove “47 ”.

[FR Doc. C1-29875 Filed 12-7-01; 8:45 am]

BILLING CODE 1505-01-D